POSTAL REGULATORY COMMISSION

[Docket No. MC2020-8; Order No. 5271]

Mail Classification Schedule

AGENCY: Postal Regulatory Commission.

ACTION: Notice.

SUMMARY: The Commission is acknowledging a recent Postal Service filing concerning changes to the Priority Mail Express International (PMEI) product description in the Mail Classification Schedule. This document informs the public of the filing, invites public comment, and takes other administrative steps.

DATES: Comments are due: November 7, 2019.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On October 9, 2019, the Postal Service filed a notice of changes to product descriptions pursuant to Commission rule 39 CFR 3020.90.¹ The Postal Service seeks to make changes to Priority Mail Express International (PMEI) product descriptions in the Mail Classification Schedule (MCS). Notice at 1. The changes are intended to take effect on January 26, 2020. Id.

¹ Notice of United States Postal Service of Filing Minor Changes to a Product Description, October 9, 2019 (Notice).

II. Summary of Changes

The Postal Service states that “[t]he purpose of these minor modifications is to establish changes to PMEI relating to the list of destination countries offered at a discount at retail, as provided in section 2305.6 of the MCS.” Id. The Postal Service avers that the proposed changes satisfy the requirements of 39 CFR 3020.90 because the changes should result in a more accurate representation of the Postal Service's offerings by informing postal retail customers of the destinations and weight steps eligible for the PMEI discount, the Notice is filed no later than 15 days prior to the intended effective date, and the changes merely revise the MCS without otherwise changing product offerings, or the prices or price groups. Id. at 1-2. The Postal Service also asserts that the proposed changes do not significantly change the user experience for any product and that there is no evidence that the changes will significantly impact competitors. Id. at 2.

III. Notice of Commission Action

Pursuant to 39 CFR 3020.91, the Commission has posted the Notice on its website and invites comments on whether the Postal Service's filings are consistent with 39 CFR part 3020, subpart E. Comments are due no later than November 7, 2019. The filing can be accessed via the Commission's website (http://www.prc.gov).

The Commission appoints Katrina R. Martinez to represent the interests of the general public (Public Representative) in this docket.

IV. Ordering Paragraphs

It is ordered:

1. The Commission establishes Docket No. MC2020-8 to consider matters raised by the Notice.

2. Comments by interested persons are due by November 7, 2019.

3. Pursuant to 39 U.S.C. 505, Katrina R. Martinez is appointed to serve as an officer of the Commission (Public Representative) to represent the interests of the general public in this proceeding.

4. The Commission directs the Secretary of the Commission to arrange for prompt publication of this notice in the Federal Register.

By the Commission.
Darcie S. Tokioka,
Acting Secretary.

[FR Doc. 2019-22576 Filed 10-16-19; 8:45 am]

BILLING CODE 7710-FW-P